DEPARTMENT OF AGRICULTURE

Forest Service

Trinity County Resource Advisory Committee (RAC)

AGENCY: Forest Service, USDA.

ACTION: Notice of meeting.

SUMMARY: The Trinity County Resource Advisory Committee (RAC) will meet on November 26, 2001 in Weaverville, California. The purpose of the meeting is to discuss the selection of Title II projects under Public Law 106-393, H.R. 2389, the Secure Rural Schools and Community Self-Determination Act of 2000, also called the “Payments to State” Act.

DATES: The meeting will be held on November 26, 2001 from 6:30 to 9:00 p.m.

ADDRESSES: The meeting will be held at the Trinity Public Utilities District Conference Room, 26 Ponderosa Lane, Weaverville, California.

FOR FURTHER INFORMATION CONTACT: Joyce Andersen, Designated Federal Official, USDA, Shasta Trinity National Forests, PO Box 1190, Weaverville, CA 96093. Phone: (530) 623-17009. Email:jandersen@fs.fed.us.

SUPPLEMENTARY INFORMATION: This will be the first meeting of the committee, and will focus on orienting the committee members to the Payments to States Act, and the Federal Advisory Committee Act (FACA), and the process for selecting Title II projects. The meeting is open to the public. Public input opportunity will be provided and individuals will have the opportunity to address the committee at that time.

Dated: November 1, 2001.
S.E. ‘Lou’ Woltering,
Forest Supervisor.

[FR Doc. 01-28135 Filed 11-8-01; 8:45 am]

BILLING CODE 3410-11-M